DEPARTMENT OF LABOR

Employment and Training Administration

[TA-W-39,182]

The JPM Company Now Known as Sanmina-SCI, Lewisburg, PA; Amended Certification Regarding Eligibility To Apply for Worker Adjustment Assistance

In accordance with Section 223 of the Trade Act of 1974 (19 U.S.C. 2273) the Department of Labor issued a Certification of Eligibility to Apply for Worker Adjustment Assistance on June 27, 2001, applicable to workers of The JPM Company, Lewisburg, Pennsylvania. The notice was published in the Federal Register on July 11, 2001 (66 FR 36329).

At the request of the company, the Department reviewed the certification for workers of the subject firm. The workers were engaged in the production of cable and wire harnesses assemblies. New information shows that Sanmina-SCI purchased The JPM Company in June, 2002 and is now known as Sanmina-SCI.

The Department is amending the certification determination to correctly identify the new title name to read Sanmina-SCI (formerly known as The JPM Company), Lewisburg, Pennsylvania.

The amended notice applicable to TA-W-39,182 is hereby issued as follows:

“All workers of Sanmina-SCI (formerly known as The JPM Company), Lewisburg, Pennsylvania, who became totally or partially separated from employment on or after April 12, 2000, through June 27, 2003, are eligible to apply for adjustment assistance under Section 223 of the Trade Act of 1974.”

Signed at Washington, DC this 15th day of April, 2003.
Edward A. Tomchick,
Director, Division of Trade Adjustment Assistance.

[FR Doc. 03-10130 Filed 4-23-03; 8:45 am]

BILLING CODE 4510-30-U